DEPARTMENT OF STATE

[Public Notice: 10782]

Certification Pursuant to the Department of State, Foreign Operations, and Related Programs Appropriations Act

By virtue of the authority vested in me as Secretary of State pursuant to section 7041(a)(1)(2)(B) of the Department of State, Foreign Operations, and Related Programs Appropriations Act, 2019 (Div. K, Pub. L. 116-6) and similar provisions in prior year appropriations acts, I hereby certify that the Government of Egypt has dismissed the convictions issued by the Cairo Criminal Court on June 4, 2013, in “Public Prosecution Case No. 1110 for the Year 2012” and has not subjected the defendants to further prosecution.

This certification shall be published in the Federal Register and shall be reported to Congress, along with the accompanying Memorandum of Justification.

Dated: April 22, 2019.
Michael R. Pompeo,
Secretary of State.

[FR Doc. 2019-11612 Filed 6-3-19; 8:45 am]

BILLING CODE 4710-31-P